DEPARTMENT OF AGRICULTURE

Rural Business-Cooperative Service

[Docket #RBS-22-BUSINESS-0029]

Notice of Solicitation of Applications for the Rural Energy for America Program for Fiscal Year 2023

AGENCY: Rural Business-Cooperative Service, USDA.

ACTION: Notice.

SUMMARY: The Rural Business-Cooperative Service (the Agency) Notice of Solicitation of Applications (NOSA) announces the acceptance of grant, guaranteed loan, and combined grant and guaranteed loan applications under the Rural Energy for America Program (REAP). The REAP program helps agricultural producers and rural small businesses reduce energy costs and consumption and helps meet the Nation's critical energy needs. Applications for REAP may be submitted at any time throughout the year. This notice announces the deadlines, dates, and times that applications must be received in order to be considered for federal Fiscal Year (FY) 2023 REAP funds. The NOSA is being issued prior to passage of a final appropriations act for FY 2023 to allow potential applicants time to submit applications for financial assistance under the program and to give the Agency time to process applications within the current FY. All REAP applications competing for FY 2023 funding will be evaluated and scored according to the provisions listed in this Notice, unless otherwise amended via a subsequent FY 2023 Notice. Applicants who have already filed REAP applications for FY 2023 will be allowed to modify their application to revise the amount of grant requested and project budget and to provide additional information if necessary for application evaluation and scoring; the modification will not be treated as a new application, nor will it alter the submission date of record if there are no changes to the scope of the project. A planned second notice for FY 2023 is expected to address such matters as additional application deadlines, dates, and times, scoring modifications, as well as additional funding, including technical assistance and an amendment to the Federal grant portion not to exceed 50 percent of total eligible project costs per Inflation Reduction Act language.

DATES: Application deadline dates and times are as outlined in 7 CFR 4280.122 and 4280.156(a). Renewable Energy Systems and Energy Efficiency Improvements (RES/EEI) and Energy Efficient Equipment and Systems (EEE) guaranteed loan applications are competed on an ongoing basis in accordance with 7 CFR 5001.315. See Section G.2. for details on REAP competitions.

ADDRESSES: You are encouraged to contact your United States Department of Agriculture (USDA) Rural Development (RD) State Energy Coordinator well in advance of the application deadline to discuss your project and ask any questions about the application process. Contact information for Energy Coordinators can be found at https://rd.usda.gov/files/RBS_StateEnergyCoordinators.pdf.

Program guidance and application forms may be obtained at https://rd.usda.gov/programs-services/all-programs/energy-programs. To submit an electronic application via grants.gov, follow the instructions for the REAP funding announcement located at https://www.grants.gov.

FOR FURTHER INFORMATION CONTACT: Jonathan Burns, Program Management Division, Rural Business-Cooperative Service, United States Department of Agriculture, 774-678-7238 or email CPgrants@usda.gov.

SUPPLEMENTARY INFORMATION:

Overview

Federal Awarding Agency Name: USDA, Rural Business-Cooperative Service.

Funding Opportunity Title: Rural Energy for America Program (REAP).

Announcement Type: Notice of Solicitation of Applications.

Funding Opportunity Number: RDBCP-REAP-RES-EEI-2023.

Assistance Listing: 10.868.

Type of Instrument: Grant, guaranteed loan, and grant and guaranteed loan combined funding.

Approximate Number of Awards: The estimated number of awards is 3,000 based on the anticipated level of funding as noted in Federal Award Information, Total Funding in Section B of this notice. The number of awards will depend on the actual amount of funds made available and on the number of eligible applicants participating in this program.

Administrative: The Agency encourages applicants to consider projects that will advance the key priorities below:

• Assisting rural communities to recover economically through more and better market opportunities and through improved infrastructure.

• Ensuring all rural residents have equitable access to RD programs and benefits from RD funded projects.

• Reducing climate pollution and increasing resilience to the impacts of climate change through economic support to rural communities.

A. Program Description

1. Purpose of the program. See Summary Section of this Notice.

2. Statutory and Regulatory Authority. REAP is authorized under 7 U.S.C. 8107 and is implemented by 7 CFR part 4280 subpart B and 7 CFR 5001. The Inflation Reduction Act (IRA) of 2022 provides additional authorities for REAP Public Law 117-169 section 22002.

3. Definitions. The definitions applicable to this notice are published at 7 CFR 4280.103 and 7 CFR 5001.3.

B. Federal Award Information

Type of Award: Competitive grants and guaranteed loans.

Fiscal Year Funds: FY 2023.

Available Funds: Total approximate budget authority made available under this notice is as follows:

Source | Available funds
Agriculture Improvement Act of 2018 (Farm Bill) | $50,000,000
2022 Inflation Reduction Act | 250,000,000
Total funds available | 300,000,000

The Agency may, at its discretion, increase the total level of funding available in this funding round (or in any category in this funding round) from any available source provided the awards meet the requirements of the statute which made the funding available to the Agency.

Award Amounts:

Maximum Award: See Funding Restrictions in Section F of this notice.

Minimum Award: See Funding Restrictions in Section F of this notice.

Anticipated Award Date: Prior to September 30, 2023.

Performance Period: Up to 24 months for grants. Guaranteed loans are governed by the loan terms.

C. Available Funds Information

Program Level Funds. This Notice is announcing mandatory Farm Bill and partial discretionary IRA funding. The Agency intends to issue a second notice to announce additional discretionary IRA funding. This notice is announcing deadline times and dates for applications to be submitted for REAP funds that may be received from the congressional enactment of a full-year appropriation for FY 2023. Based on FY 2022 appropriated funding, the Agency estimates that approximately $12.5 million may be available for FY 2023 in addition to the Farm Bill and IRA funding. Expenses incurred in developing applications will be at the applicant's risk.

Source, Type, and Allocation of Funds. REAP funding is sourced via the Farm Bill and the IRA for the purposes as outlined in 7 CFR 4280.101.

The following outlines the types of REAP funding available, deadlines, and a summary of how funds are allocated:

Type of funds | Competition | Application deadline
Energy Audit and Renewable Energy Development Assistance (EA/REDA) Grant funds |  | January 31, 2023.
RES/EEI Grant funds | 20K or less | October 31, 2022.
RES/EEI Grant funds | Unrestricted | March 31, 2023.
RES/EEI/EEE Guaranteed Loan |  | Ongoing Competition.

1. EA/REDA grant funds. The amount of funds available for EA/REDA will be at least 4 percent of FY mandatory Farm Bill funds. Funds will be competed at the National Office and obligations of EA/REDA funds will take place through March 31, 2023.

2. RES/EEI grant funds. IRA funds will be available to fund requests that do not exceed 40 percent of total eligible project costs. Farm Bill funds and FY2023 appropriated funds, if any, will be available to fund requests that do not exceed 25 percent of total eligible project costs.

(i) To ensure that small projects have a fair opportunity to compete for the funding and consistent with the requirements set forth in the 7 U.S.C. 8107(e)(1), the Agency will set aside not less than 20 percent of the Farm Bill and IRA funds until June 30, 2023, to fund grant requests of $20,000 or less. Each RD State Office will receive a set-aside allocation of IRA funds for grant requests of $20,000 or less, which includes combination grant and guaranteed loan requests where the grant amount requested is $20,000 or less. Complete grant applications requesting $20,000 or less, including the grant portion of a combined grant and guaranteed loan request, received by October 31, 2022, will compete for approximately 50 percent of the state's set-aside allocation, and those received by March 31, 2023, will compete for the second 50 percent (approximately) of the state's set-aside allocation. Any unobligated balance of funds remaining in state set-aside accounts will be pooled to the National Office for a national set-aside competition. Obligation of set-aside grant funds will take place through June 30, 2023.

(ii) Each RD State Office will also receive allocations of unrestricted FY2023 Farm Bill funds and IRA grant funds that can be used to fund any RES/EEI grant application regardless of the amount of grant requested, including the grant portion of a combination grant and guaranteed loan request, that is received by March 31, 2023. Any unobligated balance of funds remaining in state unrestricted accounts will be pooled to the National Office for a national competition of funds. Obligation of unrestricted grant funds will take place through September 30, 2023.

3. RES/EEI and EEE loan guarantee funds. RD's National Office will maintain a reserve of Farm Bill guaranteed loan funds to fund guaranteed loan only requests or the loan portion of a combined funding request. EEE guaranteed loans for agricultural production and processing shall not exceed 15 percent of the funds available to the program. Applications will be reviewed and processed when received. Those applications that meet the Agency's underwriting requirements and are credit worthy will compete in national competitions for guaranteed loan funds periodically. If funds remain after the final guaranteed loan-only national competition, the Agency may elect to utilize budget authority to fund additional grant-only applications. For FY 2023, the guarantee fee rates, the annual renewal fee, the maximum percentage of guarantee and the maximum portion of guarantee authority available for a reduced guarantee fee will be published in a separate notice. Obligation of guaranteed loan funds will take place through September 30, 2023.

4. RES/EEI combined grant and guaranteed loan funds. Funding availability for combined grant and guaranteed loan applications is outlined in Sections B and C of this notice. Combination funding requests are scored using RES/EEI grant scoring criteria. If the combined application is ranked high enough to receive state allocated grant funds, the state will request funding for the guaranteed loan portion of the request from the National Office guaranteed loan reserve and no further competition will be required. If not funded by the state allocation of funds, combined grant and guaranteed loan applications may be submitted to the National Office to compete in the appropriate National Office competition. Obligation of these funds will take place through September 30, 2023.

D. Eligibility Information

The eligibility requirements for the applicant, borrower, lender, and project (as applicable) are clarified in 7 CFR 4280 Subpart B and in 7 CFR 5001 and are summarized in this notice. Failure to meet the eligibility criteria by the time of the competition window will preclude the application from competing until all eligibility criteria have been met.

1. Eligible Applicants. Grant applicants must meet the requirements specified in 7 CFR 4280.110. An applicant must also meet the requirements specified at: 7 CFR 4280.112 for RES/EEI grant; 7 CFR 4280.137 for RES/EEI combined grant and guarantee; and 7 CFR 4280.149 for EA/REDA grant.

2. Eligible Borrowers and Lenders. To be eligible for the guaranteed loan portion of the program, borrowers must meet the eligibility requirements in 7 CFR 5001.126 and lenders must meet the eligibility requirements in 7 CFR 5001.130.

3. Eligible Projects. To be eligible for the program a project must meet the eligibility requirements specified in: 7 CFR 4280.113 for RES/EEI grant; 7 CFR 4280.150 for EA/REDA grant; 7 CFR 4280.137 for RES/EEI combined grant and guarantee; and 7 CFR 5001.106 through 5001.108, as applicable, for RES/EEI/EEE loan guarantees.

4. Other.

(i). Ineligible project costs are defined at: 7 CFR 4280.115(d) for RES/EEI grant and combined grant and guaranteed loans; 7 CFR 4280.152(c) for EA/REDA grant; and 7 CFR 5001.122 for RES/EEI/EEE loan guarantees.

(ii) Other compliance requirements. The USDA Departmental Regulations and Laws that contain other compliance requirements are referenced in Section E.5. of this notice. Applicants who have been found to be in violation of applicable Federal statutes will be ineligible.

(iii) Hemp production. The Agriculture Improvement Act of 2018, Public Law 115-334, (the 2018 Farm Bill) requires USDA to promulgate regulations and guidelines to establish and administer a program for the production of hemp in the United States.

In determining eligibility for the applicant, project or use of funds, any project applying for funding under the REAP program and proposing to produce, procure, supply or market any component of the hemp plant or hemp related by-products, or provide technical assistance related to such products, must have a valid license from an approved state, Tribal or Federal plan pursuant to section 10113 of the 2018 Farm Bill, be in compliance with regulations published by the Agricultural Marketing Service at 7 CFR 990, and meet any applicable US Food and Drug Administration and U.S. Drug Enforcement Administration regulatory requirements. Verification of valid hemp licenses will occur prior to award. In addition, all projects proposing to use biomass feedstock from any part of the hemp plant must demonstrate assurance of an adequate supply of the feedstock.

E. Application Submission Information

1. Address to Request Application Package. Application materials may be obtained by contacting the RD Energy Coordinator for the state where the proposed project will be located, as identified via the following link: https://www.rd.usda.gov/files/RBS_StateEnergyCoordinators.pdf. In addition, for grant applications, applicants may obtain electronic grant applications for REAP from www.grants.gov.

2. Content and Form of Application Submission. Applicants seeking to participate in this program must submit applications in accordance with this notice, 7 CFR part 4280 subpart B and 7 CFR 5001, as applicable. Applicants must submit complete applications by the dates identified in section E.4., of this notice, containing all parts necessary for the Agency to determine applicant and project eligibility, to score the application, and to conduct the technical evaluation, as applicable, in order to be considered. The Agency encourages the Applicant to reach out to their Energy Coordinator to determine application status. The Applicant bears all risk should they incur project costs or commence construction activities prior to Agency notification of a complete and eligible application and the completion of an environmental review.

Applicants who have already filed REAP applications for FY 2023 will be allowed to modify their application to revise the amount of grant requested and project budget and to provide additional information necessary to meet updated provisions, for determining eligibility, and application scoring. The modification will not be treated as a new application, nor will it alter the submission date of record as noted in 7 CFR 4280.110(d) if there are no changes to the scope of the project. If the scope of the project has changed, the applicant must withdraw the existing application and may refile a new application reflecting the new project scope, constituting a new application submission date of record.

3. Submission. Applicants must submit one original, hardcopy or electronic application to the appropriate RD Energy Coordinator for the State where the applicant's proposed project will be located. For grant applications, submission may be via www.grants.gov. A list of USDA RD Energy Coordinators is available via the following link: https://www.rd.usda.gov/files/RBS_StateEnergyCoordinators.pdf.

4. Submission Dates and Times. Grant applications, guaranteed loan-only applications, and combined grant and guaranteed loan applications for financial assistance may be submitted at any time on an ongoing basis. Application competition deadlines are outlined in 7 CFR 4280.122 for RES/EEI grants and 7 CFR 4280.156 for EA/REDA grants and competition deadlines are summarized in the table below. RES/EEI/EEE guaranteed loans will be reviewed and processed when received for periodic competitions. In order to be considered for funds under this notice, complete applications must be received by the appropriate USDA RD State Office Energy Coordinator or via www.grants.gov by 4:30 p.m. local time on the competition deadline. The complete application date is the date the Agency receives the last piece of information that allows the Agency to determine eligibility and to score, rank, and compete the application for funding. The Agency encourages the applicant to reach out to their Energy Coordinator to determine application status. The applicant bears all risk should they incur project costs or commence construction activities prior to Agency notification of a complete and eligible application and the completion of an environmental review.

When an application window closes, the next application window opens on the following day. An application received after the competition date will be considered with other complete applications received in the next application window.

Application | Application window opening dates | Application window closing dates/competition deadlines
EA/REDA | February 1, 2022 | January 31, 2023.*
RES/EEI—$20,000 or less set-aside Grant only request or a combination grant and guaranteed loan where the grant request is $20,000 or less, competing for up to approximately 50 percent of state set-aside funds | April 1, 2022 | October 31, 2022.
RES/EEI—$20,000 or less set-aside Grant only request or a combination grant and guaranteed loan where the grant request is $20,000 or less competing for the remaining state set-aside funds | November 1, 2022 | March 31, 2023.*
RES/EEI—Unrestricted grants Grant only request or a combination grant and guaranteed loan regardless of the amount of grant request | April 1, 2022 | March 31, 2023.*
RES/EEI/EEE Guaranteed Loans | Continuous application cycle. | Continuous application cycle.
* Unless subsequent deadlines are published via a Notice, applications received after this date will be considered for the next funding cycle in the subsequent FY.

5. Other Submission Requirements. The following are applicable for all REAP applications:

(i) Environmental information. For the Agency to consider an application, the application must address all environmental considerations specific to the project in accordance with 7 CFR 1970 and provide supporting documentation as necessary. An environmental review must be completed prior to approval of the application and obligation of funds. Applicants are advised to contact the Agency as soon as possible and prior to commissioning a project to determine environmental requirements and ensure adequate review time.

(ii) Transparency Act Reporting. All recipients of Federal financial assistance are required to report information about first-tier subawards and executive compensation in accordance with 2 CFR 170. If an applicant does not have an exception under 2 CFR 170.110(b), the applicant must then ensure that they have the necessary processes and systems in place to comply with the reporting requirements to receive funding.

(iii) Race, ethnicity, and gender. The Agency is requesting that each applicant provide race, ethnicity, and gender information about the applicant. The information will allow the Agency to evaluate its outreach efforts to under-served and under-represented populations. Applicants are encouraged to furnish this information with their application but are not required to do so. An applicant's eligibility or the likelihood of receiving an award will not be impacted by furnishing or not furnishing this information.

F. Funding Restrictions

The following funding limitations apply to applications submitted under this Notice.

1. RES/EEI/EEE Applications

(i) Applicants can compete and be awarded only one RES grant and one EEI grant in a FY, which includes the grant portion of a combined funding request. The maximum amount of grant assistance to an entity will not exceed $1,500,000 in a FY.

(ii) Modification is being made via this Notice to the Federal grant portion noted in 7 CFR 4280.115(a). The Federal grant portion of a project utilizing Inflation Reduction Act funds cannot exceed 40 percent of total eligible project costs. The Federal grant portion of a project utilizing Farm Bill funds or FY 2023 appropriated funds, if any, cannot exceed 25 percent of total eligible project costs. Sources of REAP grant funds cannot be combined to fund a project. The Agency reserves the right to further amend the Federal grant portion via a subsequent Notice not to exceed 50 percent of total eligible project costs per IRA language.

(iii) For RES grants, the minimum grant is $2,500 and the maximum is being increased from $500,000 to $1,000,000. For EEI grants, the minimum grant is $1,500 and the maximum grant is being increased from $250,000 to $500,000. These minimum and maximum limits also apply to the grant portion of a combined funding request.

(iv) For RES/EEI/EEE loan guarantees or the loan guarantee portion of a combined funding request, the minimum REAP guaranteed loan amount is $5,000 and the maximum amount of a guaranteed loan to be provided to a borrower is $25 million. Guaranteed loan requests will not exceed 75 percent of total eligible project costs, with any Federal grant portion, as applicable, not to exceed 25 or 40 percent of total eligible project costs, as applicable to the source of grant funds as outlined in further detail above.

2. EA/REDA Applications

(i) Applicants may submit only one EA grant application and one REDA grant application in a FY. Separate applications must be submitted for EA funding and REDA funding. If an application is submitted for both EA and REDA funding or if an application's scope of work includes both EA and REDA activities, it will be determined ineligible for competition. The maximum aggregate amount of EA and REDA grant awards to any one recipient cannot exceed $100,000 in a FY.

(ii) Applicants that have received one or more grants under this program must have made satisfactory progress per 7 CFR 4280.110(a) before being considered for funding.

(iii) The 2018 Farm Bill mandates that the recipient of an EA grant must require the agricultural producer or rural small business receiving the energy audit to pay at least 25 percent of the cost of the energy audit, which shall be retained by the grantee for the cost of the audit.

G. Application Review Information

1. Scoring. All complete applications will be scored in accordance with the following: 7 CFR 4280.121 and the following paragraph for RES/EEI grants and RES/EEI combined grant and loan guarantee requests; 7 CFR 4280.155 for EA/REDA grants; and 7 CFR 5001.319 and the following paragraph for RES/EEI/EEE guaranteed loans.

State Director and Administrator priority points can be awarded to applications which help further a Presidential initiative, or a Secretary of Agriculture priority as found in 7 CFR 4280.121(h)(4) for REAP Renewable Energy Systems (RES) and Energy Efficiency Improvement (EEI) grants and 7 CFR 5001.319(g)(4) for REAP RES and EEI and Energy Efficient Equipment and Systems guaranteed loans. For FY 2023, 10 State Director and Administrator priority points will be automatically awarded for applications, which based on location, meet any one of the key priorities as follows: (i) Assisting rural communities to recover economically through more and better market opportunities and through improved infrastructure; (ii) Ensuring all rural residents have equitable access to RD programs and benefits from RD funded projects; and (iii) Supporting economic investments in distressed communities. Data sources for the key priorities are found at: https://www.rd.usda.gov/priority-pointshttps://www.rd.usda.gov/priority-points and at https://ruraldevelopment.maps.arcgis.com/apps/webappviewer/index.html?id=06a26a91d074426d944d22715a90311e for distressed communities. The State Director or Administrator at their discretion may award up to 5 priority points maximum for projects which meet any of the following criteria if a project does not qualify for the 10 priority points under the Administration's priorities or as a distressed community as described above: (i) The application is for an under-represented technology; (ii) selecting the application helps achieve geographic diversity, which may include points based upon the size of the funding request; (iii) the applicant is a member of an unserved or underserved population described as follows: (1) Owned by a veteran, including but not limited to individuals as sole proprietors, members, partners, stockholders, etc., of not less than 20 percent. In order to receive points, applicants must provide a statement in their application to indicate that owners of the project have veteran status; or (2) owned by a member of a socially disadvantaged group, which are groups whose members have been subjected to racial, ethnic, or gender prejudice because of their identity as members of a group without regard to their individual qualities. In order to receive points, the application must include a statement to indicate that the owners of the project are members of a socially disadvantaged group; (iv) the proposed project is in a Federally declared major disaster area. Declarations must be within the last 2 calendar years; (v) the proposed project is located in (1) an area where 20 percent or more of its population is living in poverty over the last 30 years, as defined by the United States Census Bureau, (2) an underserved community(ies) or (3) an area that has experienced long-term population decline, or loss of employment. Except for veteran and socially disadvantaged group status, all other priority points are based upon project location specific criteria which will be documented automatically by the Agency. State Director or Administrator priority points for a REAP application cannot exceed 10 points total.

2. Competitions. Unless modified in a subsequent notice, the maximum number of competitions a complete and eligible application will be able to compete within the FY is outlined in 7 CFR 4280.122 for RES/EEI grants, 7 CFR 4280.156 for EA/REDA grants, and 7 CFR 5001.315 for guaranteed loans. If the application remains unfunded after the final National Office competition for the FY it must be withdrawn.

3. Notification of funding determination. As per 7 CFR 4280.111(c) and 7 CFR 5001.315(b)(2), all applicants will be informed in writing by the Agency as to the funding determination of the application. https://www.rd.usda.gov/.

H. Build America, Buy America Act

The Infrastructure Investment and Jobs Act (IIJA), (Public Law 117-58) requires the following Buy America preference:

(1) All iron and steel used in the project are produced in the United States. This means all manufacturing processes, from the initial melting stage through the application of coatings, occurred in the United States.

(2) All manufactured products used in the project are produced in the United States. This means the manufactured product was manufactured in the United States, and the cost of the components of the manufactured product that are mined, produced, or manufactured in the United States is greater than 55 percent of the total cost of all components of the manufactured product, unless another standard for determining the minimum amount of domestic content of the manufactured product has been established under applicable law or regulation.

(3) All construction materials are manufactured in the United States. This means that all manufacturing processes for the construction material occurred in the United States.

Awards under this announcement for infrastructure projects to non-federal entities, defined pursuant to 2 CFR 200.1 as any State, local government, Indian tribe, Institution of Higher Education, or nonprofit organization, shall be governed by the requirements of Section 70914 of the Build America, Buy America Act (BABAA) within the IIJA, and its implementing regulations. Infrastructure projects include structures, facilities, and equipment that generate, transport, and distribute fuel or energy, including electric vehicle (EV) charging stations. Infrastructure projects also include structures, facilities, and equipment for roads, highways, and bridges; public transportation; dams, ports, harbors, and other maritime facilities; intercity passenger and freight railroads; freight and intermodal facilities; airports; water systems, including drinking water and wastewater systems; electrical transmission facilities and systems; utilities; broadband infrastructure; and buildings and real property.

In accordance with BABAA, however, USDA has determined that de minimis, small grants, and minor components shall be waived from the requirements of BABAA, pursuant to a public interest waiver that was granted to the Department on Sept. 13, 2022. See https://www.usda.gov/sites/default/files/documents/usda-departmentwide-de-minimis-small-grants-minor-components-waiver-final-approved-09132022.pdf Under such waiver, small grants below the Simplified Acquisition Threshold, which is currently set at $250,000 shall not be subject to BABAA. Additionally, de minimis and minor components, as described in the Department waiver, are also not subject to BABAA. Applicants and projects that are subject to BABAA may request other specific waivers, pursuant to the requirements posted at the USDA Office of the Chief Financial Office website: https://www.usda.gov/ocfo/federal-financial-assistance-policy/USDABuyAmericaWaiver.

For-profit entities and other entities not included in the definition of Non-Federal Entities, defined pursuant to 2 CFR 200.1, are not subject to BABAA. EA and REDA grants are not infrastructure projects and are not subject to BABAA.

I. Other Information

1. Paperwork Reduction Act. In accordance with the Paperwork Reduction Act of 1995, the information collection requirements associated with the programs, as covered in this notice, have been approved by the Office of Management and Budget (OMB) under OMB Control Number 0570-0067.

2. Nondiscrimination Statement. In accordance with Federal civil rights law and USDA civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the 711 Relay Service.

To file a program discrimination complaint, a complainant should complete a Form AD-3027, USDA Program Discrimination Complaint Form, which can be obtained online at https://www.usda.gov/sites/default/files/documents/ad-3027.pdf, from any USDA office, by calling (866) 632-9992, or by writing a letter addressed to USDA. The letter must contain the complainant's name, address, telephone number, and a written description of the alleged discriminatory action in sufficient detail to inform the Assistant Secretary for Civil Rights (ASCR) about the nature and date of an alleged civil rights violation.

The completed AD-3027 form or letter must be submitted to USDA by:

(i) Mail: U.S. Department of Agriculture, Office of the Assistant Secretary for Civil Rights, 1400 Independence Avenue SW, Washington, DC 20250-9410; or

(ii) Fax: (833) 256-1665 or (202) 690-7442; or

(iii) Email: program.intake@usda.gov.

USDA is an equal opportunity provider, employer, and lender.

Mark Brodziski,
Acting Administrator, Rural Business-Cooperative Service.

[FR Doc. 2022-27359 Filed 12-15-22; 8:45 am]

BILLING CODE 3410-XY-P